DEPARTMENT OF AGRICULTURE

Forest Service

Information Collection; National Incident Support Stakeholder Assessment

AGENCY: Forest Service, USDA.

ACTION: Notice; Request for Comment.

SUMMARY: In accordance with the Paperwork Reduction Act of 1995, the Forest Service is seeking comments from all interested individuals and organizations on the new information collection, National Incident Support Contracts Stakeholders Survey.

DATES: Comments must be received by e-mail on or before February 25, 2011 to be assured for consideration. Comments received after that date will be considered to the extent practicable.

ADDRESSES: Comments concerning this notice should be e-mailed to NCA@fs.fed.us with “Stakeholders Assessment Comments” entered into the subject line of the e-mail or mailed to USFS-WO, FESSAA; 560 Loon Lake Road, Eagle River, WI 54521. The public may inspect comments via the Internet at: http://www.fs.fed.us/business/incident/fessaa.php.

FOR FURTHER INFORMATION CONTACT: Teri Sabin, WO Acquisition Procurement Analyst at 715-479-6643. Individuals who use telecommunication devices for the deaf (TDD) may call the Federal Relay Service (FRS) at 800-877-8339, between 8 a.m. and 8 p.m., Eastern Standard Time, Monday through Friday.

SUPPLEMENTARY INFORMATION:

Title: National Incident Support Stakeholder Assessment.

OMB Number: 0596-New.

Type of Request: New.

Abstract: Contracts for incident support related to wildfire and disaster response are awarded at the national level by the Forest Service's Incident Support Branch. In an effort to ensure procurement methods used are the most effective, the Forest Service will perform an extensive assessment of its current practices and procedures. During this review, the agency will analyze information collected from both internal and external stakeholders to clearly define best practices. Stakeholders include Forest Service employees, other Federal agencies, industry representatives, associations, professional organizations, and prospective contractors.

To comply with the Paper Reduction Act (PRA), the Forest Service requires OMB approval to collect information from the public. The agency is requesting approval to collect external stakeholder information in the form of formal and informal interviews and an online, electronic survey. Both collections will relate specifically to acquisitions and contracts for incident support, such as wildfire and natural disaster procurements, with the goal of determining the acquisition method which is in the best interest of the Federal government, imposes a reasonable risk on the contractor, yet also motivates effective contractor performance.

The survey and interviews will be performed and analyzed by the Forest Service Acquisition Management Fire Equipment, Services, and Supplies Acquisition Analysis (FESSAA) Team. The information will be used as a component of the overall analysis to help verify if changes are necessary to the agency practices and procedures. Results from the information collection may be shared with other Forest Service divisions, with agencies outside the Forest Service, and with the public.

The authorization to survey stakeholders comes from Executive Order 12862, issued September 11, 1993, which directs Federal agencies to change the way they do business, to reform their management practices, and to provide service to the public that matches or exceeds the best service available in the private sector. This collection and its review will provide the Forest Service with the necessary information to meet the terms of the Executive Order.

Estimate of Annual Burden: 20 minutes.

Type of Respondents: Internal and external stakeholders including customers, other agency personnel, industry representatives, contractor associations, and individual contractors.

Estimated Annual Number of Respondents: 600.

Estimated Annual Number of Responses per Respondent: 1.

Estimated Total Annual Burden on Respondents: 200 hours.

Comment is Invited:

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: December 21, 2010.
Barbara L. Cooper,
Acting Deputy Associate Chief, Business Operations.

[FR Doc. 2010-32474 Filed 12-23-10; 8:45 am]

BILLING CODE 3410-11-P